DEPARTMENT OF HEALTH AND HUMAN SERVICES

Assistant Secretary for Administration; Delegation of Authority

Notice is hereby given that I have amended the delegation of authority to the Assistant Secretary for Preparedness and Response (ASPR); the Director, Centers for Disease Control and Prevention (CDC); the Administrator, Health Resources and Services Administration (HRSA); the Director, National Institutes for Health (NIH); the Director, Office of Global Affairs (OGA); and the Administrator, Substance Abuse and Mental Health Services Administration (SAMHSA), specifically the authority vested in the Secretary, by section 212(l) of the Department of Defense and Labor, Health and Human Services, and Education Appropriations Act, 2019 and Continuing Appropriations Act, 2019 (FY 19 HHS Appropriations Act) Public Law 115-245, division B, title II, (September 28, 2018), or substantially similar authorities vested in me in the future by Congress, in order to carry out international health activities, including HIV/AIDS and other infectious disease, chronic and environmental disease, and other health activities abroad. Section 212(l) of the FY19 HHS Appropriations Act and section 212(1) of the Further Consolidated Appropriations Act, 2020, Public Law 116-94, division A, title II, (December 20, 2019) permit the Secretary of HHS to exercise authority equivalent to that available to the Secretary of State under 22 U.S.C. 2669(c) to award personal services contracts for work performed in foreign countries.

The authority delegated herein includes the authority to determine the necessity of negotiating, executing, and performing such contracts without regard to statutory provisions as relate to the negotiation, making, and performance of contracts and performance of work in the United States. This authority is immediately revoked in the event that any subsequent fiscal year HHS appropriations act does not contain the provision currently in section 212(1) or substantially similar authority.

The Director, CDC, may redelegate this authority to the Chief Operating Officer, CDC, through Fiscal Year 2021 from this date of signature to respond to current and any future Ebola, polio, and coronavirus outbreaks. This authority may not be further be redelegated except as noted above.

The delegatees shall consult with the Secretary of State and relevant Chief of Mission to ensure that this authority is exercised in a manner consistent with section 207 of the Foreign Service Act of 1980 and other applicable statutes administered by the Department of State.

This amended delegation became effective upon date of signature. In addition, I hereby affirm and ratify any actions taken by you or your subordinates which involved the exercise of the authorities delegated herein, or substantially similar authorities vested in me by prior annual HHS appropriations acts, prior to the effective date of the delegation.

Dated: February 7, 2020.
Alex M. Azar II,
Secretary, Department of Health and Human Services.

[FR Doc. 2020-02944 Filed 2-12-20; 8:45 am]

BILLING CODE 4151-17-P